DEPARTMENT OF INTERIOR

U.S. Geological Survey

List of Programs Eligible for Inclusion in Fiscal Year 2007 Funding Agreements To Be Negotiated with Self-Governance Tribes

AGENCY: U.S. Geological Survey, Interior.

ACTION: Notice.

SUMMARY: This notice lists programs or portions of programs that are eligible for inclusion in fiscal year 2007 funding agreements with self-governance tribes and lists programmatic targets pursuant to section 405(c)(4) of the Tribal Self-Governance Act.

DATES: This notice expires on September 30, 2007.

ADDRESSES: Inquiries or comments regarding this notice may be directed to Sue Marcus, American Indian/Alaska Native Liaison, U.S. Geological Survey, 104 National Center, Reston, VA 20192.

SUPPLEMENTARY INFORMATION:

Background

Title II of the Indian Self-Determination Act amendments of 1994 (Pub. L. 103-413, the “Tribal Self-Governance Act” or the “Act”) instituted a permanent self-governance program at the Department of the Interior (DOI). Under the self-governance program certain programs, services, functions, and activities, or portions thereof, in DOI bureaus other than the Bureau of Indian Affairs (BIA) are eligible to be planned, conducted, consolidated, and administered by a self-governance tribal government.

Under section 405(c) of the Act, the Secretary of the Interior (Secretary) is required to publish annually: (1) A list of non-BIA programs, services, functions, and activities, or portions thereof, that are eligible for inclusion in agreements negotiated under the self-governance program; and (2) programmatic targets for these bureaus.

Under the Act, two categories of non-BIA programs are eligible for self-governance funding agreements (AFAs):

(1) Under section 403(b)(2) of the Act, any non-BIA program, service, function or activity that is administered by COI that is “otherwise available to Indian tribes or Indians,” can be administered by a tribal government through a self-governance funding agreement. The DOI interprets this provision to authorize the inclusion of programs eligible for self-determination contracts under Title I of the Indian Self-Determination and Education Assistance Act (Pub. L. 93-638, as amended). Section 403(b)(2) also specifies “nothing in this subsection may be construed to provide any tribe with a preference with respect to the opportunity of the tribe to administer programs, services, functions and activities, or portions thereof, unless such preference is otherwise provided by law.”

(2) Under section 403(c) of the Act, the Secretary may include other programs, services, functions, and activities or portions thereof that are of “special geographic, historical, or cultural significance” to a self-governance tribe.

Under section 403(k) of the Act, funding agreements cannot include programs, services, functions, or activities that are inherently Federal or where the statute establishing the existing program does not authorize the type of participation sought by the tribe. However, a tribe (or tribes) need not be identified in the authorizing statutes in order for a program or element to be included in a self-governance funding agreement. While general legal and policy guidance regarding what constitutes an inherently Federal function exists, we will determine whether a specific function is inherently Federal on a case-by-case basis considering the totality of circumstances.

Response to Comments

The DOI Office of Self-Governance requested comments on the proposed list on June 14, 2006. A number of editorial and technical changes were provided by DOI bureaus and incorporated into this Notice. While the Notice of June 14, 2006 illustrated all eligible non-BIA programs for DOI, this Notice is specific to the U.S. Geological Survey.

II. Eligible Non-BIA Programs of the U.S. Geological Survey

The U.S. Geological Survey (USGS) will consider for inclusion in funding agreements activities which, upon request of a self-governance tribe, USGS determines to be eligible under either sections 403(b)(2) or 403(c) of the Act. Tribes with an interest in such potential agreements are encouraged to being such discussions.

The mission of USGS is to collect, analyze, and provide information on biology, geology, hydrology, and geography that contributes to the wise management of the Nation's natural resources and to the health, safety, and well-being of the American people. This information is usually publicly available and includes maps, data bases, and descriptions and analyses of the water, plants, animals, energy, and mineral resources, land surface, underlying geologic structure, and dynamic processes of the earth. The USGS does not manage lands or resources. Self-governance tribes may potentially assist USGS in the data acquisition and analysis components of its activities through a funding agreement.

For questions regarding self-governance contact Sue Marcus, American Indian/Alaska Native Liaison, U.S. Geological Survey, 104 National Center, Reston, VA 20192, telephone 703-648-4437, fax 703-648-4454, e-mail smarcus@usgs.gov.

III. Programmatic Targets

During fiscal year 2007, upon request of a self-governance tribe, the U.S. Geological Survey will negotiate funding agreements for its eligible activities.

Dated: March 2, 2007.
Mark Limbaugh,
Assistant Secretary—Water and Science.

[FR Doc. 07-1211 Filed 3-14-07; 8:45 am]

BILLING CODE 4311-AM-M